DEPARTMENT OF DEFENSE

Department of the Navy

[Docket ID: USN-2023-HQ-0021]

Proposed Collection; Comment Request

AGENCY: Department of the Navy (DON), Department of Defense (DoD).

ACTION: 60-Day information collection notice.

SUMMARY: In compliance with the Paperwork Reduction Act of 1995, the Department of the Navy's Office of Military Awards announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 22, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to DON Information Management Control Office, 2000 Navy Pentagon, Washington, DC 20350, ATTN: Mrs. Sonya Martin or call 703-614-7585.

SUPPLEMENTARY INFORMATION:

Title; Associated Form; and OMB Number: Navy Personal Awards Form; OPNAV 1650/3; OMB Control Number: 0703-NPAF.

Needs and Uses: The purpose of DON military awards is to provide deserving members of the Naval Service recognition for qualifying acts of valor or non-combat heroism, for exceptionally meritorious achievement or service, and for arduous or otherwise special service. Nominations for Personal Military Decorations are submitted on the OPNAV 1650/3 for Service Members (active duty, retired, and veterans), Foreign Military, and Midshipmen. An award nomination package must include an Award Recommendation form, Summary of Action narrative justification, and a proposed citation. For all awards for heroism, combat or non-combat, notarized statements by at least two eyewitnesses must be included. Midshipmen in the Naval Reserve Officer Training (NROTC) are generally eligible for military awards only when serving under orders on active duty. As an exception to the general policy, when not on active duty NROTC midshipmen are eligible for Personal Military Decorations for acts of non-combat heroism on the same basis as inactive members of the Navy Reserve. If a decoration is approved, the referral Member of Congress (MoC) will be informed and the Navy or Marine Corps will make arrangements for an appropriate presentation ceremony. If the nomination, or request for upgrade, is disapproved, the MoC will be informed and provided the reason(s) for disapproval. The authority to complete this collection effort is given by SECNAVINST 1650.1J, DON Military Awards Policy; DoD Instruction 1348.33, DoD Military Decorations and Awards; and 10 U.S.C., Armed Forces.

Affected Public: Individuals or households.

Annual Burden Hours: 23.

Number of Respondents: 30.

Responses per Respondent: 1.

Annual Responses: 30.

Average Burden per Response: 45 minutes.

Frequency: On occasion.

Dated: November 14, 2023.
Aaron T. Siegel,
Alternate OSD Federal Register Liaison Officer, Department of Defense.

[FR Doc. 2023-25792 Filed 11-21-23; 8:45 am]

BILLING CODE 3810-FR-P